POSTAL SERVICE

Removal of Confirm Service From the Market-Dominant Product List

AGENCY: Postal Service™.

ACTION: Notice.

SUMMARY: The Postal Service hereby provides notice that it has filed a request with the Postal Regulatory Commission to remove Confirm® service from the Mail Classification Schedule's Market-Dominant product list.

DATES: Effective date: February 14, 2013.

FOR FURTHER INFORMATION CONTACT: John F. Rosato, 202-268-8597.

SUPPLEMENTARY INFORMATION: On February 1, 2013, the United States Postal Service® filed with the Postal Regulatory Commission a request to remove Confirm service from the Mail Classification Schedule's Market-Dominant product list, pursuant to 39 U.S.C. 3642. This request would update the Mail Classification Schedule by recognizing that the functionality of Confirm service has been incorporated into IMb Tracing™, and all Confirm service subscriptions have expired as of January 21, 2013. Interested persons may comment on, or view documents pertinent to this request at www.prc.gov, Docket No. MC2013-38.

Stanley F. Mires,
Attorney, Legal Policy & Legislative Advice.

[FR Doc. 2013-03379 Filed 2-13-13; 8:45 am]

BILLING CODE 7710-12-P